DEPARTMENT OF EDUCATION

Gainful Employment Reporting Date for the 2010-2011 Award Year and Continued Collection of Gainful Employment Information for Prior Award Years

AGENCY: Federal Student Aid, Department of Education.

ACTION: Notice of deadline date.

Overview Information:

(CFDA Nos. 84.007, 84.033, 84.038, 84.063, 84.268, 84.379, and 84.408).

Student Assistance General Provisions, Federal Supplemental Educational Opportunity Grant, Federal Work-Study, Federal Perkins Loan, Federal Pell Grant, William D. Ford Federal Direct Loan, Teacher Education Assistance for College and Higher Education Grant, and Iraq and Afghanistan Service Grant programs.

SUMMARY: The Secretary announces the deadline date for the receipt of information from institutions for programs that prepare students for gainful employment in a recognized occupation that are eligible to participate in the Federal student assistance programs authorized under title IV of the Higher Education Act of 1965, as amended (HEA), for the 2010-2011 award year. The Secretary also announces the continued collection of gainful employment program information for prior award years.

Deadline Date: November 15, 2011.

SUPPLEMENTARY INFORMATION: On October 29, 2010, the Secretary published in the Federal Register (75 FR 66832) final regulations related to postsecondary educational programs that lead to gainful employment in recognized occupations and the information that institutions are required to report under 34 CFR 668.6(a)(1).

The regulations in 34 CFR 668.6(a)(2)(i)(A) and (a)(2)(i)(B) provide that institutions must report information for the 2006-2007 award year to the extent that the information is available and for the 2007-2008 through the 2009-2010 award years no later than October 1, 2011. The regulations in 34 CFR 668.6(a)(2)(i)(C) further provide that an institution must report information required for the most recently completed award year no earlier than September 30, but no later than the date established by the Secretary through a notice published in the Federal Register. Accordingly, through this notice, the Secretary announces that institutions must report the information required under 34 CFR 668.6(a)(1) for the 2010-2011 award year no later than November 15, 2011. Although information for the gainful employment programs for prior award years is due by October 1, 2011, consistent with the submission date established by this notice for the 2010-2011 award year, the Department will continue to accept information for prior award years through November 15, 2011.

FOR FURTHER INFORMATION CONTACT: Rene Tiongquico, U.S. Department of Education, Federal Student Aid, 830 First Street, NE., room 113H1, Washington, DC 20202. Telephone: (202) 377-4270.

If you use a telecommunications device for the deaf (TDD), call the Federal Relay Service (FRS), toll free, at 1-800-877-8339.

Individuals with disabilities can obtain this document in an accessible format (e.g., braille, large print, audiotape, or computer diskette) by contacting the program contact person listed in this section.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Program Authority: 20 U.S.C. 1001(b), 1002(b), 1002(c), 1070a, 1070b-1070b-4, 1070g, 1087a-1087j, and 1087aa-1087ii; 42 U.S.C. 2751-2756b.

Dated: July 28, 2011.
James W. Runcie,
Acting Chief Operating Officer, Federal Student Aid.

[FR Doc. 2011-19534 Filed 8-1-11; 8:45 am]

BILLING CODE 4000-01-P